GENERAL SERVICES ADMINISTRATION

Federal Acquisition Institute Vendor meeting

AGENCY: Office of the Chief Acquisition Officer, GSA

ACTION: Notice of meeting

SUMMARY: The Federal Acquisition Institute (FAI) will hold a vendor meeting to provide new information on the Federal Acquisition Certification for Program and Project Managers. This meeting will cover two main objectives to include details on the “Vendor Consortium: Available FAC-P/PM Training from Vendors” and the revised Vendor Submission Process.

First, the FAI Certification Team will address the “Vendor Consortium: Available FAC-P/PM Training from Vendors” website. There will be a demonstration on how to use the site, along with a chance for everyone to provide their comments and feedback.

The final topic to discuss is the revised Vendor Submission Process. FAI will walk through the revisions and improvements that have been made to the submission process and explain in detail how to go about submitting courses.

WHO SHOULD ATTEND? Training developers, vendors with Commercial-Off-The- Shelf (COTS) training products, vendors with capabilities related to the full Instructional System Design (ISD) methodologies, professional associations, educational institutions and acquisition training experts.

The meeting will be held November 10, 2008 from 10:00 am to 11:30 am, National Capital Region (NCR) Auditorium located at 301 7th Street, SW Washington, DC.

Register by e-mail: mcamburn@fmpconsulting.com, or call (703) 671-6600 x.105.

FOR FURTHER INFORMATION CONTACT: Michael Camburn, by phone at (703) 671-6600 x.105 or by e-mail at mcamburn@fmpconsulting.com.

Karen Pica,
Director, Federal Acquisition Institute.

[FR Doc. E8-25416 Filed 10-23-08; 8:45 am]

BILLING CODE 6820-61-S